ENVIRONMENTAL PROTECTION AGENCY

[FRL-7618-7]

T.H. Agriculture & Nutrition Company Superfund Site; Re-publication Notice of Proposed Settlement

AGENCY: Environmental Protection Agency.

ACTION: Re-publication of Notice of Proposed Settlement.

SUMMARY: Under section 122(h)(1) of the Comprehensive Environmental Response, Compensation, and Liability Act (CERCLA), 42 U.S.C. 9622(h)(1), the United States Environmental Protection Agency (EPA) has entered into an Agreement with Schwerman Trucking Company concerning the T.H. Agriculture & Nutrition Company Superfund Site (Site) located in Albany, Dougherty County, Georgia. This notice replaces the notice dated December 29, 2003, which incorrectly described the Agreement. EPA will consider public comments on the Agreement until March 8, 2004. EPA may withdraw from or modify the Agreement should such comments disclose facts or considerations which indicate the Agreement is inappropriate, improper, or inadequate. Copies of the Agreement are available from:

Ms. Paula V. Batchelor, U.S. Environmental Protection Agency, Region 4, Superfund Enforcement & Information Management Branch, Waste Management Division, 61 Forsyth Street, SW, Atlanta, Georgia 30303, 404/562-8887.

Written comments may be submitted to Ms. Batchelor at the above address within thirty (30) days of the date of publication.

Dated: January 28, 2004.
Anita Davis,
Acting Chief, Superfund Enforcement & Information Management Branch, Waste Management Division.

[FR Doc. 04-2421 Filed 2-4-04; 8:45 am]

BILLING CODE 6560-50-P